DEPARTMENT OF JUSTICE

Office of Juvenile Justice and Delinquency Prevention

[OJP (OJJDP)-1268]

Program Announcement for the Evaluation of Parents Anonymous®

AGENCY: Office of Justice Programs, Office of Juvenile Justice and Delinquency Prevention, Justice.

ACTION: Notice of solicitation.

SUMMARY: The Office of Juvenile Justice and Delinquency Prevention (OJJDP) is requesting applications for the evaluation of the Parents Anonymous® program. The purpose of the evaluation is to assess the implementation and effectiveness of Parents Anonymous® programs in preventing and treating child abuse and neglect.

DATES: Applications must be received by June 19, 2000.

ADDRESSES: Interested applicants must obtain an application kit from the Juvenile Justice Clearinghouse at 800-638-8736. The application kit is also available at OJJDP's Web site at www.ojjdp.ncjrs.org/grants/about.html#kit. (See “'Format” and “Delivery Instructions” later in this announcement for instructions on required standards and the address to which applications must be sent.)

FOR FURTHER INFORMATION CONTACT: Dean Hoffman, Program Manager, Office of Juvenile Justice and Delinquency Prevention, 202-353-9256. [This is not a toll-free number.]

SUPPLEMENTARY INFORMATION:

Purpose

To assess the implementation and effectiveness of Parents Anonymous® programs in preventing and treating child abuse and neglect. This 3-year process and outcome evaluation will be funded as a cooperative agreement.

Background

Parents Anonymous® is a national child abuse prevention program dedicated to family strengthening in partnership with local communities. From a single group in 1970, Parents Anonymous® has grown into more than 1,000 weekly mutual support groups for parents and complementary children's programs. In communities throughout the country, partnerships are formed between local communities, Parents Anonymous® organizations, and Parents Anonymous, Inc., the national accrediting entity. With a 30-year history and more than 30,000 local volunteers, Parents Anonymous® worked with 100,000 parents and their children in 1997 to help prevent child abuse and neglect.

The Parents Anonymous® national network consists of 32 State and local Parents Anonymous® organizations, which oversee the weekly Parents Anonymous® groups and children's programs. Parents Anonymous, Inc., provides training and technical assistance to Parents Anonymous® organizations and State and local government agencies to foster the development and maintenance of Parents Anonymous® programs. Program materials, technical assistance services, and regional and national trainings are designed and conducted by Parents Anonymous, Inc.

Mutual support and shared leadership are the cornerstones of the Parents Anonymous® model. Parents Anonymous® programs partner in local communities with volunteers, agencies, and parents to establish groups to strengthen families. The program is both a community development model and a prevention and treatment model. Parent leaders are assigned meaningful and identifiable roles at both the group and organizational levels to ensure shared leadership and the development of more responsive programs to meet the needs identified by families. This unique model actualizes the principles of mutual support and shared leadership not just in the group model but at the organizational level. This is accomplished through the leadership roles of parents who participate in effective outreach to other parents, program planning and implementation, strategic planning, fundraising, policy decisions, organizational governance, and evaluation activities.

Applicants can obtain a Parents Anonymous® information package through the Office of Juvenile Justice and Delinquency Prevention's (OJJDP's) Juvenile Justice Clearinghouse by calling 800-638-8736. Information about Parents Anonymous® will also be available during the bidders' conference discussed later in this Notice.

Evaluation Strategy

This evaluation will be conducted in two phases. During Phase I (12 months), the process evaluation will investigate how the theoretical premises, principles, best practices, and model of Parents Anonymous® are implemented in a sample of programs selected by the evaluator. The process evaluation should result in an in-depth understanding of why parents seek help, how the program tries to help parents change, what factors influence initial and continued involvement in the program, and other relevant issues. A wide range of individuals should be included in the evaluation, including participants and facilitators, parent leaders, and program coordinators. Applicants should present a detailed approach to conducting the process evaluation.

Applicants should present a preliminary approach to conducting the outcome evaluation (Phase II, 24 months) in the selected programs. This should include a detailed discussion of the overall design of the outcome evaluation and include methods for selecting programs and comparison groups, designing and testing data collection instruments, and collecting and analyzing data. Multiple methods should be used to collect baseline and followup data. The outcome evaluation should be able to assess the effectiveness of Parents Anonymous® in preventing and treating child abuse and neglect. The outcome evaluation design should be described as specifically as possible but recognize that the design will be refined during Phase I. The design of the outcome evaluation is to be completed by the end of Phase I.

The number and type of programs included in the evaluation should be selected in a manner that will provide information on a wide variety of programs. Applicants should include a methodology for selecting programs in their proposal, but it is possible that this methodology will be modified after the first meeting of the Project Advisory Board (see below). The evaluator can anticipate being able to use a national listing of programs to be provided by Parents Anonymous, Inc., for the purpose of sampling. This national database, which is currently under development, will be able to provide the evaluator with information on the scope and nature of Parents Anonymous® organizations and types of programs across the Nation.

Upon award of the cooperative agreement, Parents Anonymous, Inc., will introduce the evaluator to the Parents Anonymous® national network, emphasize the usefulness of the evaluation, and encourage programs, participants, and staff to share information, opinions, and ideas. The applicant's strategies for conducting the process and outcome evaluation should reflect an understanding of the collaboration between Parents Anonymous, Inc., and its regional and local organizations, shared leadership with program participants, and methodological issues related to evaluating mutual support programs and community-based prevention programming.

Goal

To assess the implementation and effectiveness of Parents Anonymous® programs in preventing and treating child abuse and neglect.

Phase I Objectives

• Identify, investigate, and document how the theoretical premises, principles, best practices, and model of Parents Anonymous® are implemented in a sample of programs to be selected by the evaluator.

• Document how programs are established, staffed, and operated.

• Produce, in the selected groups, an in-depth understanding of who participates in Parents Anonymous®, the circumstances behind their participation, the methods for producing changes in behavior and attitudes, the factors that influence initial and continued involvement with the program, and other relevant issues.

• Describe how the Parents Anonymous® model is implemented in different settings (e.g., agencies, prisons, schools).

• Describe any variability in the implementation of the Parents Anonymous® model across settings and communities.

• Finalize the design of the outcome evaluation.

Phase II Objectives

• Assess the effectiveness of the Parents Anonymous® programs and their different structures in preventing and treating child abuse and neglect.

• Assess the differences between families that continue in Parents Anonymous® and those that do not.

• Investigate which factors and circumstances either contribute to or detract from the effectiveness of the Parents Anonymous® program.

• Identify effective techniques for monitoring program outcomes that might be adapted for ongoing self-assessment of local Parents Anonymous® programs.

Project Advisory Board

A Project Advisory Board (PAB) will provide guidance on the overall design of the evaluation, data collection instruments and procedures, and other similar issues. Also, the PAB will advise the evaluator on ways to help ensure the cooperation and collaboration of Parents Anonymous® programs.

The PAB will consist of five members. The evaluator will be responsible for identifying and recommending four PAB members. In their proposal, applicants should identify two potential members of the PAB and include signed letters of commitment from them. These two individuals must have demonstrated expertise in the child maltreatment and domestic violence fields and evaluation of mutual support and self-help groups. These experts should be able to offer guidance on the evaluation design and data collection instruments. The other two PAB members will be identified and recommended after the cooperative agreement is awarded. These members will be parents, staff, or volunteers involved in the Parents Anonymous® program. OJJDP will approve all PAB recommendations. The fifth member will be identified by OJJDP and Parents Anonymous, Inc.

The PAB will be convened twice during Phase I. The first meeting should be held within 2 months of the award. The PAB will be charged with reviewing the detailed process evaluation design, the preliminary outcome evaluation design, and the program sampling strategy. The second meeting will be held 10 months into Phase I. At this meeting, the PAB will be charged with reviewing the process evaluation findings, reviewing refined outcome evaluation design, and guiding evaluation activities for the remainder of the project. Additional meetings will be held during Phase II, but the number and timing of these will be determined at a later date.

The evaluator will be responsible for coordinating both PAB meetings. One meeting is to be held in Washington, DC, and the other is to be held in Claremont, CA. The evaluator must include in its budget expenses for the meeting location, materials, and travel and related expenses and preparation day(s) for the PAB members.

Products

The following products will be delivered during Phase I:

1. One month after the first PAB meeting, the evaluator will submit (1) a final process evaluation design and methodology, including a plan for selecting programs, and (2) a revised outcome evaluation design, the feasibility of which is to be determined during the process evaluation.

2. At 10 months, the evaluator will submit (1) An interim report describing the results of the process evaluation and (2) A refined outcome evaluation design that builds upon the PAB's first round of comments and the evaluator's experience in the field. The PAB will meet and review these products.

3. At 12 months, the evaluator will submit a final outcome evaluation plan.

During Phase II, the following products will be delivered:

1. The evaluator will submit an interim report at month 24 (that is, 12 months into Phase II) that summarizes preliminary findings and discusses the progress of the evaluation.

2. The evaluator will provide a draft final report at least 60 days prior to the end of the 3-year grant period to allow for review and comment by the PAB and OJJDP.

3. The evaluator will provide a final report, including an executive summary that can be published as a separate document. These documents will be submitted 30 days prior to the end of the 3-year grant period. In addition, a summary version of the report suitable for publication as an OJJDP Bulletin must be prepared at the same time.

Eligibility Requirements

OJJDP invites applications from public and private agencies, organizations, institutions, and individuals. Private, for-profit organizations must agree to waive any profit or fee. Joint applications from two or more eligible applicants are welcome; however, one applicant must be clearly indicated as the primary applicant (for correspondence, award, and management purposes) and the others indicated as coapplicants.

Selection Criteria

Applicants will be evaluated and rated by a peer review panel according to the criteria outlined below.

Problem(s) To Be Addressed (5 points)

Applicants should demonstrate their understanding of the causes of child maltreatment and its relationship to domestic violence, family strengthening research, strategies to prevent and treat child abuse and neglect, and the role of mutual support and self-help programs, such as Parents Anonymous®, in terms of how they are designed to address the theoretical factors in child maltreatment. The application should discuss how some types of interventions may be counterproductive.

Goals and Objectives (10 points)

Applicants must define specific goals and measurable objectives for conducting, managing, and producing the products of this evaluation. This section of the proposal should expand upon the goals outlined in this solicitation and be closely tied to the project design. A detailed time line should be included as appendix A (see “Appendixes” below).

Project Design (40 points)

Applicants should demonstrate a thorough understanding of appropriate evaluation designs, identify the methodological issues and problems associated with the type of evaluation to be conducted here, and propose solutions for these problems. (5 points)

The applicant must present a clear, detailed project design that describes the approach to conducting the process and outcome evaluations. The project design should include a detailed strategy for selecting Parents Anonymous® programs and comparison groups. Applicants must present a plan for addressing cultural diversity and satisfy confidentiality and protection of human subjects requirements (see requirements regarding privacy certificates and Institutional Review Boards below). A clear plan must be presented for developing and pilot testing data collection instruments and collecting and analyzing data. (30 points)

The applicant should demonstrate an ability to conduct the evaluation in a manner compatible with the shared leadership-mutual support model of Parents Anonymous”. Applicants should discuss how they have addressed confidentiality and cultural diversity issues in previous research and how these will be addressed in the current study. (5 points)

Management and Organizational Capability (25 points)

The application should include a discussion of how the grantee will coordinate and manage this evaluation. The applicant's management structure and staffing must be adequate and appropriate for the successful implementation of the project. (10 points)

The applicant must identify responsible individuals, their time commitment, and their specific task assignments. Key staff should have significant experience in the fields of childhood maltreatment and domestic violence and with designing and conducting multisite evaluations and conducting appropriate analysis. Applicants should discuss their experience with evaluations of mutual support programs, self-help programs, and community-based child abuse and neglect prevention programs. (10 points)

Applicants must discuss how they will work with and maintain the involvement of parents, parent leaders, facilitators, and program coordinators in data collection and analysis issues and other requirements of the project. (5 points)

Budget (15 points)

The applicant must provide a proposed budget that is detailed, reasonable, and cost effective in relation to the activities to be undertaken.

Appendixes (5 points)

Appendix A: 3-Year Project Time line. The time line should clearly and comprehensively show when the evaluation's goals and objectives will be achieved.

Appendix B: Résumés of personnel and consultants. Key staff should have significant experience with designing and conducting multisite evaluations and conducting appropriate analysis.

Appendix C: Résumés of two proposed PAB members and their signed letters of agreement. These two individuals must have demonstrated expertise in the child maltreatment and domestic violence fields and evaluation of mutual support and self-help groups. These experts should be able to offer guidance on the evaluation design and data collection instruments.

Bidders' Conference

OJJDP will host a bidders' conference on May 10, 2000, at 1:00 p.m. to answer questions potential applicants have about the Request for Proposals and general operation of Parent Anonymous® programs. The conference will be conducted via conference call. Interested parties should call 703-871-3073 (for those within the Washington, DC, metropolitan area) and 877-282-0743 (for those outside the Washington, DC, metropolitan area) up to 10 minutes before the conference is to begin and follow the instructions. Applicants have the opportunity to ask questions during the conference; the instructions on how to do this will be provided when applicants call in for the conference. For those applicants who cannot participate in the conference, OJJDP will post the transcript of the proceedings on its Web site (www.ojjdp.ncjrs.org) and make it available through the Juvenile Justice Clearinghouse (800-638-8736). Applicants should not contact Parents Anonymous, Inc., directly.

Format

The application must be submitted on 8½- by 11-inch paper. All text must be double-spaced on one side of the paper in 12-point, Times Roman font. One-inch margins must be used on all sides. These requirements apply to the narrative portion of the application, which includes the problem to be addressed, goals and objectives, project design, and management and organizational capability. Graphics, tables, budget, and the appendixes are exempt from these requirements. This is necessary to maintain fair and uniform standards among all applicants. If the narrative does not conform to these standards, OJJDP will deem the application ineligible for consideration.

The narrative portion must not exceed 30 pages.

Award Period

This project will be funded for 3 years in three 1-year budget periods. Funding after the first budget period depends on grantee performance, availability of funds, and other criteria established at the time of award.

Award Amount

Up to $300,000 is available for the initial 12-month budget period. Applicants need provide a detailed budget only for Phase I.

Confidentiality

Applicants proposing research and statistical activities that will involve the collection of data identifiable to a private person must comply with the confidentiality requirements of 42 U.S.C. section 3789g and 28 CFR part 22. Specifically, applicants should submit a Privacy Certificate in accordance with 28 CFR section 22.23 as part of the application package.

Human Subjects

Applicants are advised that any project that will involve the use of human research subjects must be reviewed by an Institutional Review Board (IRB), in accordance with Department of Justice regulations at 28 CFR Part 46. IRB review is not required prior to submission of the application. However, if an award is made and the project involves research using human subjects, OJJDP will place a special condition on the award requiring that the project be approved by an appropriate IRB before Federal funds can be expended on human subjects activities. Applicants should include plans for IRB review, where applicable, in the project time line submitted with the proposal.

Catalog of Federal Domestic Assistance (CFDA) Number

For this program, the CFDA number, which is required on Standard Form 424, Application for Federal Assistance, is 16.542. This form is included in the OJJDP Application Kit, which can be obtained by calling the Juvenile Justice Clearinghouse at 800-638-8736 or sending an e-mail request to puborder@ncjrs.org. The Application Kit is also available online at www.ojjdp.ncjrs.org./grants/about.html#kit.

Coordination of Federal Efforts

To encourage better coordination among Federal agencies in addressing State and local needs, the U.S. Department of Justice (DOJ) is requesting applicants to provide information on the following: (1) Active Federal grant award(s) supporting this or related efforts, including awards from DOJ; (2) Any pending application(s) for Federal funds for this or related efforts; and (3) Plans for coordinating any funds described in items (1) or (2) with the funding sought by this application. For each Federal award, applicants must include the program or project title, the Federal grantor agency, the amount of the award, and a brief description of its purpose.

“Related efforts” is defined for these purposes as one of the following:

1. Efforts for the same purpose (i.e., the proposed award would supplement, expand, complement, or continue activities funded with other Federal grants).

2. Another phase or component of the same program or project (e.g., to implement a planning effort funded by other Federal funds or to provide a substance abuse treatment or education component within a criminal justice project).

3. Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, MD 20850; 301-519-5535. Note: In the lower left-hand corner of the envelope, you must clearly write “Evaluation of Parents Anonymous®”

Due Date

Applicants are responsible for ensuring that the original and five copies of the application package are received by 5:00 p.m. EDT on June 19, 2000.

Contact

For further information call Dean Hoffman, Program Manager, Research and Program Development Division, 202-353-9256, or send an e-mail inquiry to hoffmand@ojp.usdoj.gov.

Suggested References

Belsky, J. 1993. Etiology of child maltreatment: A developmental-ecological analysis. Psychological Bulletin 114(3):413-434.

Cohn, A. H. 1979. Essential elements of successful child abuse and neglect treatment. Child Abuse and Neglect 3:491-496.

Cohn, A. H., and Daro, D. 1987. Is treatment too late: What ten years of evaluative research tells us. Child Abuse and Neglect 11:433-442.

Gray, E. 1986. Child Abuse: Prelude to Delinquency. Washington, DC: U.S. Department of Justice, Office of Justice Programs, Office of Juvenile Justice and Delinquency Prevention.

Hawkins, J., VonCleve, E., and Catalano, R. 1991. Reducing early childhood aggression: Results of a primary prevention program. Journal of the American Academy of Child and Adolescent Psychiatry 30:208-217.

Humphreys, K., and Rappaport, J. 1994. Researching self-help/mutual aid groups and organizations: Many roads, one journey. Applied & Preventive Psychology 3:217-231.

Levine, M. 1988. An analysis of mutual assistance. American Journal of Community Psychology 19:167-187.

Rafael, T., and Pion-Berlin, L. 1999. Parents Anonymous®: Strengthening Families. Bulletin. Washington, DC: U.S. Department of Justice, Office of Justice Programs, Office of Juvenile Justice and Delinquency Prevention.

Riessman, F., and Carroll, D. 1995. Redefining Self-Help: Policy and Practice. San Francisco: Jossey-Bass Publishers.

Widom, C. 1991. Childhood victimization: Risk factor for delinquency. In Adolescent Stress: Causes and Consequences, edited by M. Colton and S. Gore. New York: Aldine de Gruyer.

Dated: March 29, 2000.
John J. Wilson,
Acting Administrator, Office of Juvenile Justice and Delinquency Prevention.

[FR Doc. 00-8201 Filed 4-3-00; 8:45 am]

BILLING CODE 4410-18-P